DEPARTMENT OF ENERGY

Federal Energy Regulatory Commission

[Docket No. CP14-105-000]

Gulf South Pipeline Company, LP; Notice of Application

On March 12, 2014, Gulf South Pipeline Company, LP (Gulf South) filed with the Federal Energy Regulatory Commission (Commission) an application under section 7(c) of the Natural Gas Act and Sections 157.205 and 157.210 of the Commission's regulations to acquire, operate, and maintain approximately 31.29 miles of existing natural gas pipeline facilities, including appurtenances, located in Jackson and Wharton Counties, Texas. Gulf South states that no landowner notifications are required pursuant to Section 157.6(d) (1) since the proposed acquisition is by ownership transfer. No new facilities are expected to be constructed and the current facilities and rights-of-way will be utilized for natural gas transportation.

Questions regarding this application may be directed to M. L. Gutierrez, Director, Regulatory Affairs, Gulf South Pipeline Company, LP, 9 Greenway Plaza, Houston, Texas, 77046; by fax 713-479-1745 or email to Nell.Gutierrez@bwpmlp.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Protests will be considered by the Commission in determining the appropriate action to be taken, but will not serve to make protestants parties to the proceeding. Any person wishing to become a party must file a notice of intervention or motion to intervene, as appropriate. Such motions or protests must be filed on or before the comment date. Anyone filing a motion to intervene or protest must serve a copy of that document on the Applicant, on or before the comment date. It is not necessary to serve motions to intervene or protests on persons other than the Applicant.

The Commission encourages electronic submission of comments, protests and interventions in lieu of paper using the “eFiling” link at http://www.ferc.gov. Persons unable to file electronically should submit an original and seven copies of the protest or intervention to the Federal Energy Regulatory Commission, 888 First Street NE., Washington, DC 20426.

This filing is accessible on-line at http://www.ferc.gov. using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 11, 2014.

Dated: March 21, 2014.
Kimberly D. Bose,
Secretary.

[FR Doc. 2014-06875 Filed 3-27-14; 8:45 am]

BILLING CODE 6717-01-P